ENVIRONMENTAL PROTECTION AGENCY

[FRL-6837-9]

Agency Information Collection Activities; Submission for OMB Review; Comment Request; Notice of Supplemental Distribution of a Registered Pesticide Product

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Notice of Supplemental Distribution of a Registered Pesticide Product, (EPA ICR No. 0278.07, OMB No. 2070-0044). The ICR, which expires on September 30, 2000 and is abstracted below, describes the nature of the information collection and its expected burden and cost; where appropriate, it includes the actual data collection instrument. The Agency is requesting that OMB renew approval of the ICR for a three year period.

DATES: Addition comments may be submitted on or before August 17, 2000.

FOR FURTHER INFORMATION CONTACT: Sandy Farmer by phone at 202-260-2740, or via e-mail at “farmer.sandy@epa.gov”, or using the address indicated below. Please refer to EPA ICR No. 0278.07 and OMB Control No. 2070-0044.

ADDRESSES: Send comments, referencing EPA ICR No. 0278.07 and OMB Control No. 2070-0044, to the following addresses; Ms. Sandy Farmer, U.S. Environmental Protection Agency, Collection Strategies Division (2822), 1200 Pennsylvania Avenue, NW., Washington, DC 20460; and to Office of Information and Regulatory Affairs, Office of Management and Budget (OMB), Attention: Desk Officer for EPA, 725 17th Street, NW., Washington, DC 20503.

SUPPLEMENTARY INFORMATION: Title: Notice of Supplemental Distribution of a Registered Pesticide Product (EPA) ICR No. 0278.07; OMB Control No. 2070-0044) expiring on September 30, 2000. This is a request to renew a currently approved information collection pursuant to 5 CFR 1320.12.

Abstract: This collection activity provides the Agency with notification of supplemental registration of distributors of pesticide products. The Environmental Protection Agency (EPA, the Agency) is responsible for the regulation of pesticides as mandated by the Federal Insecticide, Fungicide and Rodenticide Act (FIFRA), as amended. Section 3(3) of FIFRA allows pesticide registrants to distribute or sell a registered pesticide product under a different name instead of or in addition to his own. Such distribution and sale is termed “supplemental distribution” and the product is termed “distributor product.” EPA requires the pesticide registrant to submit a supplemental statement (EPA Form 8570-5) when the registrant has entered into an agreement with a second company that will distribute the registrant's product under the second company's name and product name. Since the last approval, EPA has not changed the substance or the method of collection for this activity.

Burden Statement: The annual public reporting and recordkeeping burden for this collection of information is estimated to average 15 minutes per response. Under the PRA, “burden” means the total time, effort, or financial resources expended by persons to generate, maintain, retain, or disclose or provide information to or for a Federal agency. For this collection it includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. The ICR provides a detailed explanation of this estimate, which is only briefly summarized in this notice. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on December 29, 1999 (64 FR 73040). No comments were received on this ICR during the comment period. The following is a summary of the estimates taken from the ICR:

Respondents/Affected Entities: Pesticide Registrants.

Estimated Number of Respondents: 5000.

Frequency of Response: As needed per event.

Estimated total number of responses for each respondent: 1.

Estimated Total Annual Burden: 1,250 hours.

Estimated Total Annualized Costs: $118,350.

Changes in Burden Estimates: The total burden associated with this ICR has decreased from 1,500 hours in the 1997 ICR to 1,250 for this ICR. This adjustment represents an improved estimate of the volume of responses received by the Agency. According to the procedures prescribed in 5 CFR 1320.12, EPA has submitted this ICR to OMB for review and approval. Any comments related to the renewal of this ICR should be submitted within 30 days of this notice, as described above.

Dated: July 13, 2000.
Oscar Morales,
Director, Collection Strategies Division.

[FR Doc. 00-18107 Filed 7-17-00; 8:45 am]

BILLING CODE 6560-50-M